DEPARTMENT OF TRANSPORTATION

Federal Aviation Administration

[Summary Notice No. PE-2005-24]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Kenna Sinclair (425-227-1556), Transport Airplane Directorate (ANM-113), Federal Aviation Administration, 1601 Lind Ave SW., Renton, WA 98055-4056; or John Linsenmeyer (202-267-5174), Office of Rulemaking (ARM-1), Federal Aviation Administration, 800 Independence Avenue, SW., Washington, DC 20591.

This notice is published pursuant to 14 CFR 11.85 and 11.91.

Issued in Washington, DC, on April 21, 2005.
Anthony F. Fazio,
Director, Office of Rulemaking.

Disposition of Petitions

Docket No.: FAA-2004-19956.

Petitioner: Evergreen International Airlines, Inc.

Sections of 14 CFR Affected: 14 CFR 25.809(f)(1).

Description of Relief Sought/Disposition: To permit the removal of the crew escape slides without reducing the upper deck occupancy on Boeing Model 747-100, -200, -200C, and -200F series airplanes. Grant of Exemption, 04/01/2005, Exemption No. 8536

Docket No.: FAA-2002-13872.

Petitioner: Airbus UK Limited.

Sections of 14 CFR Affected: Part 21, SFAR No. 88.

Description of Relief Sought/Disposition: To allow Airbus to operate Airbus Model BAC-1-11-200/400 airplanes without meeting the requirements of SFAR-88. Partial Grant of Exemption, 04/05/2005, Exemption No. 8535

Docket No.: FAA-2003-15812.

Petitioner: Airbus.

Sections of 14 CFR Affected: 14 CFR 25.562(b)(2).

Description of Relief Sought/Disposition: To permit relief from the floor warpage testing requirement for flightdeck seats on the Airbus Model A380 airplanes. Grant of Exemption, 04/01/2005, Exemption No. 8538

[FR Doc. 05-8456 Filed 4-26-05; 8:45 am]

BILLING CODE 4910-13-P